DEPARTMENT OF HEALTH AND HUMAN SERVICES

Health Resources and Services Administration

Meeting of the Council on Graduate Medical Education

AGENCY: Health Resources and Services Administration (HRSA), Department of Health and Human Services.

ACTION: Notice.

SUMMARY: In accordance with the Federal Advisory Committee Act, this notice announces a change to the 2-day Council on Graduate Medical Education (COGME or Council) public meeting scheduled for September 12, 2024, and September 13, 2024. The meeting will now be a 1-day meeting held on September 12, 2024. Information about COGME, agendas, and materials for this meeting can be found on the COGME website at https://www.hrsa.gov/advisory-committees/graduate-medical-edu/meetings. This notice supersedes information about COGME's 2024 meetings found in the Federal Register notice dated December 15, 2023, Meeting of the Council on Graduate Medical Education.

DATES: The COGME meeting will be held on:

• September 12, 2024, 10:00 a.m.-5:30 p.m. Eastern Time

ADDRESSES: The meeting will be held by teleconference and/or a video conference platform. For updates on how the meeting will be held, visit the COGME website 20 calendar days before the date of the meeting, where instructions for joining meetings will be posted. For meeting information updates, go to the COGME website meeting page at https://www.hrsa.gov/advisory-committees/graduate-medical-edu/meetings.

FOR FURTHER INFORMATION CONTACT: Shane Rogers, Designated Federal Officer, Division of Medicine and Dentistry, Bureau of Health Workforce, HRSA, 5600 Fishers Lane, Rockville, Maryland 20857; 301-443-5260; or SRogers@hrsa.gov.

SUPPLEMENTARY INFORMATION: COGME provides advice and recommendations to the Secretary of Health and Human Services and Congress on policy, program development, and other matters of significance regarding the issues listed in section 762(a)(1) of the Public Health Service Act. Issues addressed by COGME include the supply and distribution of the physician workforce in the United States, including any projected shortages or excesses; foreign medical school graduates; the nature and financing of undergraduate and graduate medical education (GME); appropriation levels for certain programs under Title VII of the Public Health Service Act; and deficiencies in databases concerning the supply and distribution of the physician workforce and postgraduate programs for training physicians. COGME submits reports to the Secretary of Health and Human Services; the Senate Committee on Health, Education, Labor and Pensions; and the House of Representatives Committee on Energy and Commerce. COGME encourages entities providing GME to conduct activities to voluntarily achieve the recommendations of the Council related to appropriate efforts to be carried out by hospitals, schools of medicine, schools of osteopathic medicine, and accrediting bodies with respect to the supply and distribution of physicians in the United States; current and future shortages or excesses of physicians in medical and surgical specialties and subspecialties; and issues relating to foreign medical school graduates, including efforts for changes in undergraduate and GME programs.

Since priorities dictate meeting times, be advised that start times, end times, and agenda items are subject to change. For the September 12, 2024, meeting, agenda items may include, but are not limited to, discussions on team-based care, the Senate Finance Committee's Medicare GME draft policy document, and the 2018 Government Accountability Office's Report on Physician Workforce. Refer to the COGME website listed above for all current and updated information concerning the September meeting, including agendas and meeting materials that will be posted 20 calendar days before the meeting.

Members of the public will have the opportunity to provide comments. Public participants may submit written statements in advance of the scheduled meeting. Oral comments will be honored in the order they are requested and may be limited as time allows. Requests to submit a written statement or make oral comments to COGME should be sent to Shane Rogers using the contact information above at least 5 business days before the meeting date.

Maria G. Button,
Director, Executive Secretariat.

[FR Doc. 2024-18791 Filed 8-21-24; 8:45 am]

BILLING CODE 4165-15-P